DEPARTMENT OF VETERANS AFFAIRS

[OMB Control No. 2900-0724]

Proposed Information Collection (FVEC) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to collect information from honorably discharged Filipino veterans of WWII who served in the Armed Forces of the United States and who may be eligible to receive a one-time payment from Filipino Veterans Equity Compensation Fund (FVEC), which is a part of the President's Stimulus Package.

DATES: Written comments and recommendations on the proposed collection of information should be received on or before June 15, 2009.

ADDRESSES: Submit written comments on the collection of information through Federal Docket Management System (FDMS) at http://www.Regulations.gov or to Nancy J. Kessinger, Veterans Benefits Administration (20M35), Department of Veterans Affairs, 810 Vermont Avenue, NW., Washington, DC 20420 or e-mail to nancy.kessinger@va.gov. Please refer to “OMB Control No. 2900-0724” in any correspondence. During the comment period, comments may be viewed online through FDMS.

FOR FURTHER INFORMATION CONTACT: Nancy J. Kessinger at (202) 461-9769 or FAX (202) 275-5947.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Statement in Support of Claim (Filipino Veterans Equity Compensation Fund), VA Form 21-4138(CF).

OMB Control Number: 2900-0724.

Abstract: Veterans who served in the organized military forces of the Government of the Commonwealth of the Philippines, including certain service in the Philippine Scouts or in organized guerrilla forces recognized by the United States Army, while such forces were in the service of the Armed Forces of the United States, are entitled to a one time payment from the Filipino Veterans Equity Compensation Fund. The veteran must be honorably discharged and served before July 1, 1946 to receive the one-time payment. Applicants seeking this one-time payment must complete VA Form 21-4138(CF) to determine eligibility and file their claim on or before February 16, 2010.

Affected Public: Individuals or households.

Estimated Annual Burden: 1,500 hours.

Estimated Average Burden per Respondent: 5 minutes.

Frequency of Response: One time.

Estimated Number of Respondents: 18,000.

Dated: April 10, 2009.
By direction of the Secretary.
Denise McLamb,
Program Analyst, Enterprise Records Service.

[FR Doc. E9-8629 Filed 4-14-09; 8:45 am]

BILLING CODE 8320-01-P